DEPARTMENT OF HEALTH AND HUMAN SERVICES

Centers for Medicare & Medicaid Services

42 CFR Chapter IV

[CMS-6012-N2]

RIN 0938-AL13

Medicare Program; Establishment of the Negotiated Rulemaking Committee on Special Payment Provisions and Requirements for Prosthetics and Certain Custom-Fabricated Orthotics; Meeting Announcement

AGENCY: Centers for Medicare & Medicaid Services (CMS), HHS.

ACTION: Notice of meetings.

SUMMARY: This notice announces the establishment of the Negotiated Rulemaking Committee on Special Payment Provisions and Requirements for Prosthetics and Certain Custom-Fabricated Orthotics. On June 17, 2002, the Secretary signed the charter that established the committee.

The purpose of this committee is to advise us on developing a proposed rule that would establish special payment provisions and requirements for suppliers of prosthetics and certain custom-fabricated orthotics under the Medicare program. The committee consists of representatives of interested parties that are likely to be significantly affected by the proposed rule.

This notice also announces the dates and locations for the first and second meetings in accordance with section 10(a) of the Federal Advisory Committee Act. These meetings are open to the public.

DATES: The first meeting of the advisory committee is scheduled for October 1 through October 3, 2002 from 9 a.m. until 5 p.m. e.s.t. The second meeting is scheduled for October 29 through October 31, 2002 from 9 a.m. until 5 p.m. e.s.t. Subsequent meetings will be announced in the Federal Register.

ADDRESSES: Both meetings will be held at the Hilton Pikesville at 1726 Reisterstown Road, Baltimore, MD 21208 (Telephone 410-653-1100). Subsequent meetings will be held at locations to be announced.

FOR FURTHER INFORMATION CONTACT: Kathryn Cox, 410-786-5954 (General inquiries concerning prosthetics and custom-fabricated orthotics and additional meeting information), Centers for Medicare & Medicaid Services (CMS), 7500 Security Blvd, Baltimore MD 21244; or Lynn Sylvester, 202-606-9140, Federal Mediation and Conciliation Services, 2100 K Street, NW., Washington, DC 20427; or Ira Lobel, 518-431-0130, Federal Mediation and Conciliation Services, 1 Clinton Square, Room 952, Albany, NY 12207.

SUPPLEMENTARY INFORMATION:

Background

Section 427 of the Medicare, Medicaid, and SCHIP Benefits Improvement and Protection Act of 2000 (BIPA) (Pub.L. 106-554, enacted on December 21, 2000) mandated the establishment of a negotiated rulemaking committee in accordance with the Negotiated Rulemaking Act of 1990, 5 U.S.C. 561-570. The purpose of the committee is to advise us on the content of a proposed rule regarding the special payment provisions and requirements set forth in section 427 of BIPA for prosthetics and certain custom-fabricated orthotics. The committee will also establish an initial list of those custom-fabricated orthotic items that will be subject to the new rulemaking. No item may be included on the list unless the item is individually fabricated for the patient using a positive model of the patient.

Through the use of face-to-face negotiations, the committee will attempt to reach consensus on the substance of the proposed rule. If consensus is reached, the committee will transmit to us a report containing required information for developing a proposed rule and we will use the report as the basis for the proposed rule. The committee is responsible for identifying the key issues, gauging their importance, analyzing the information necessary to resolve the issues, arriving at a consensus, and recommending the text and content of the proposed regulation.

Facilitators

We will be using the services of facilitators from the Federal Mediation and Conciliation Services, specifically, Commissioner Lynn Sylvester and Commissioner Ira B. Lobel.

Agendas for the Public Meetings

At the initial 3-day meeting on October 1-3, 2002, the facilitators will offer an overview of the negotiated rulemaking process, the obligations of committee members, and the substantive issues to be resolved by the committee. The facilitators will conduct a brief training session on negotiation techniques.

The facilitators will propose ground rules for the negotiation committee. These are the procedural rules that the committee will adopt at its first meeting. The facilitators will distribute proposed ground rules, which will address, among other things—

1. The composition of the Committee,

2. The use of alternates;

3. The definition of consensus;

4. The procedures for public participation;

5. Preparation of meeting minutes; and

6. The essential commitment of the members to attend the meetings and participate meaningfully.

The proposed ground rules will emphasize the importance of the members' communication with their constituencies, including keeping them abreast of the negotiations. The proposed ground rules will also address “bargaining” in good faith to reach consensus.

At the October 29 through October 31 meeting, the committee will begin to discuss the following issues:

• What and who should be covered by the rule?

• How and by whom will practitioners be certified, credentialed, or licensed?

• What are the special needs that must be addressed, such as dealing with rural areas?

• How will the program be implemented?

This list of issues is preliminary in nature and will serve as the basis to begin the negotiations.

Public Participation

All interested parties are invited to attend both public meetings. No advance registration is required. Seating will be available on a first-come, first-served basis.

Interested parties may comment on the proposed meeting agendas, submit written statements to the Committee regarding substantive issues, and request an opportunity to make a 5-minute oral presentation to the Committee. The Committee has the authority to decide to what extent oral presentations by members of the public may be permitted at the meeting. Oral presentations will be limited to statements of fact and views, and shall not include any questioning of the committee members or other participants unless the facilitators have specifically approved these questions. The number of oral presentations may be limited by the time available.

The deadline for submitting oral presentation requests and comments on the proposed agenda for the October 1 through 3 meeting is 12 noon on September 3, 2002. The deadline for submitting such requests and comments regarding the October 29 through October 31 meeting is 12 noon on October 1, 2002. To assure distribution of written statements to the Committee members before a particular meeting, we encourage interested parties to submit all such statements by the relevant deadline for oral presentation requests and agenda comments. Agenda comments, oral presentation requests, and substantive written statements may be mailed to the following address: Federal Mediation and Conciliation Services, 2100 K Street, NW., Washington, DC 20427, Attention: Lynn Sylvester, or call Lynn Sylvester at (202) 606-9140.

Individuals requiring sign language interpretation for the hearing impaired or other special accommodations should contact Kathryn Cox at the e-mail address specified above or call (410) 786-5954 at least 10 days before the meeting.

Meetings

Subsequent meetings will be held as necessary, although we anticipate that a minimum of six meetings (one meeting per month consisting of 2 or 3 day sessions) will be held. The committee will decide on the dates for the remaining meetings. We will publish notices of future meetings in the Federal Register. All future meetings will be open to the public without advance registration.

Authority: Federal Advisory Committee Act (5 U.S.C. App. 2).

(Catalog of Federal Domestic Assistance Program No. 93.774, Medicare—Supplementary Medical Insurance Program)
Dated: July 15, 2002.
Thomas A. Scully,
Administrator, Centers for Medicare & Medicaid Services.

[FR Doc. 02-18614 Filed 7-25-02; 8:45 am]

BILLING CODE 4120-01-P